DEPARTMENT OF ENERGY

Federal Energy Regulatory Commission

Combined Notice of Filings # 1

January 5, 2007.

Take notice that the Commission received the following exempt wholesale generator filings:

Docket Numbers: EG07-25-000.

Applicants: Fenton Power Partners I, LLC.

Description: Fenton Power Partners I, LLC submits a notice of Self-Certification of Exempt Wholesale Generator Status.

Filed Date: 12/22/2006.

Accession Number: 20070104-0522.

Comment Date: 5 p.m. Eastern Time on Friday, January 12, 2007.

Docket Numbers: EG07-26-000.

Applicants: Buena Vista Energy, LLC.

Description: Buena Vista Energy, LLC submits a notice of Self-Certification of Exempt Wholesale Generator Status.

Filed Date: 12/27/2006.

Accession Number: 20070104-0521.

Comment Date: 5 p.m. Eastern Time on Wednesday, January 17, 2007.

Docket Numbers: EG07-27-000.

Applicants: Grays Harbor Energy LLC.

Description: Grays Harbor Energy LLC submits a Notice of Self-Certification of Exempt Wholesale Generator Status.

Filed Date: 12/28/2006.

Accession Number: 20070104-0520.

Comment Date: 5 p.m. Eastern Time on Thursday, January 18, 2007.

Take notice that the Commission received the following electric rate filings:

Docket Numbers: ER04-691-081.

Applicants: Midwest Independent Transmission System Operator, Inc.

Description: Midwest Independent Transmission System Operator, Inc submits proposed revisions to its Open Access Transmission and Energy Markets Tariff.

Filed Date: 12/26/2006.

Accession Number: 20070103-0184.

Comment Date: 5 p.m. Eastern Time on Tuesday, January 16, 2007.

Docket Numbers: ER06-1420-003.

Applicants: Midwest Independent Transmission System Operator, Inc.

Description: Midwest Independent Transmission System Operator submits proposed revisions to the Midwest Contingency Reserve Sharing Group Agreement.

Filed Date: 12/26/2006.

Accession Number: 20070103-0185.

Comment Date: 5 p.m. Eastern Time on Tuesday, January 16, 2007.

Docket Numbers: ER07-139-001.

Applicants: Oklahoma Gas and Electric Company.

Description: Oklahoma Gas and Electric Co submits a notice of withdrawal of amendment to rate schedule and request to terminate proceeding of the 11/1/06 filing.

Filed Date: 12/29/2006.

Accession Number: 20070104-0066.

Comment Date: 5 p.m. Eastern Time on Friday, January 19, 2007.

Docket Numbers: ER07-366-000.

Applicants: Duke Energy Carolinas, LLC; Duke Power Company

Description: Duke Energy Carolinas, LLC files specific rates to be charged under its Power Supply Agreements pursuant to the Commission's 10/31/06 order.

Filed Date: 12/22/2006.

Accession Number: 20070103-0150.

Comment Date: 5 p.m. Eastern Time on Friday, January 12, 2007.

Docket Numbers: ER07-385-000; ER06-451-002.

Applicants: American Electric Power Service Corporation; Southwestern Electric Power Company; Public Service Company of Oklahoma.

Description: Public Service Company of Oklahoma and Southwestern Electric Power Co submits revisions to its Open Access Transmission Tariff, Third Revised Volume 6 in compliance with FERC's 7/20/06 Order.

Filed Date: 12/26/2006.

Accession Number: 20070103-0079.

Comment Date: 5 p.m. Eastern Time on Wednesday, January 10, 2007.

Docket Numbers: ER07-389-000.

Applicants: Power Provider, LLC.

Description: Power Provider, LLC submits a notice of cancellation of its FERC Electric Tariff 1.

Filed Date: 12/29/2006.

Accession Number: 20070104-0524.

Comment Date: 5 p.m. Eastern Time on Friday, January 19, 2007.

Docket Numbers: ER07-392-000.

Applicants: MidAmerican Energy Company.

Description: Mid American Energy Co submits its First Revised Network Integration Transmission Service Agreement and First Revised Network Operating Agreement with Montezuma Municipal Light and Power.

Filed Date: 12/29/2006.

Accession Number: 20070104-0523.

Comment Date: 5 p.m. Eastern Time on Friday, January 19, 2007.

Docket Numbers: ER07-398-000.

Applicants: Entergy Services Inc.

Description: Entergy Arkansas, Inc submits its revised Network Integration Transmission Service Agreements with the Cities of Prescott and West Memphis, Arkansas.

Filed Date: 12/29/2006.

Accession Number: 20070103-0187.

Comment Date: 5 p.m. Eastern Time on Friday, January 19, 2007.

Docket Numbers: ER07-399-000.

Applicants: Entergy Services Inc.

Description: Entergy Services Inc agent for Entergy Arkansas, Inc submits revised rate schedule sheets to its Power Coordination, Interchange and Transmission Service Agreements with Cit of Hope, Arkansas and Cities of Campbell and Thayer, Missouri.

Filed Date: 12/29/2006.

Accession Number: 20070103-0186.

Comment Date: 5 p.m. Eastern Time on Friday, January 19, 2007.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E7-279 Filed 1-11-07; 8:45 am]

BILLING CODE 6717-01-P